DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under Office of Management and Budget (OMB) review, in compliance with the Paperwork Reduction Act (44 U.S.C. Chapter 35). To request a copy of these documents, email or call the SAMHSA Reports Clearance Officer at samhsapra@samhsa.hhs.gov or (240) 276-0166.

Proposed Project: Program Evaluation for Prevention Contract (PEPC) Evaluation (OMB No. 0930-0377)—Revision

The Substance Abuse and Mental Health Services Administration's (SAMHSA) Center for Behavioral Health Statistics and Quality (CBHSQ) aims to complete a cross-site evaluation of SAMHSA's Strategic Prevention Framework for Prescription Drugs (SPF Rx). SPF Rx is designed to address nonmedical use of prescription drugs as well as opioid overdoses by raising awareness about the dangers of sharing medications and by working with pharmaceutical and medical communities on the risks of overprescribing. The SPF Rx program grantees also raise community awareness and bring activities related to prescription drug misuse prevention and education to schools, communities, parents, prescribers, and their patients. The SPF Rx program aims to promote collaboration between states, tribes, U.S. territories, and pharmaceutical and medical communities to understand the risks of overprescribing to youth ages 12-17 and adults 18 years of age and older. The program also aims to enhance capacity for, and access to, Prescription Drug Monitoring Program (PDMP) data for prevention purposes.

This request for data collection includes a revision to previously approved OMB instruments to allow for data collection through the end of the grant period with the FY 2021 and FY 2022 grantees. The FY 2021 cohort of grants focused on the dangers of sharing medications; the risks of overprescribing, especially to young adults; community awareness and education; and incorporation of PDMP data into grantees' needs assessments and strategic plans. The FY 2022 cohort of grants focused on raising awareness about the risks of sharing medications, taking fake or counterfeit pills, and overprescribing.

The SPF Rx program's indicators of success are reductions in opioid overdoses, reductions in prescription drug misuse, and improved use of PDMP data. Data collected through the tools described in this statement will be used for the national cross-site evaluation of SAMHSA's SPF Rx program. This request for revision covers continued data collection through FY 2028 (three years), through the end of the grant period for grants awarded in FY 2022 and covering the a year of data collection for an anticipated FY2027 cohort. The Program Evaluation for Prevention Control (PEPC) team will systematically collect and maintain an Annual Reporting Tool (ART) and Grantee and Community Level Outcomes data modules submitted by SPF Rx grantees through the online Data Management System (DMS), and conduct telephone interviews with SPF Rx grantees.

SAMHSA is requesting approval for data collection for the SPF Rx cross-site evaluation with the following instruments:

• Annual Reporting Tool (ART)—The ART is a survey instrument collected yearly to monitor state, territory, tribal entity, and community-level performance, and to evaluate the effectiveness of the SPF Rx program. This tool is completed by grantees and subrecipient community project directors and provides process data related to funding use and effectiveness, organizational capacity, collaboration with community partners, data infrastructure, planned intervention targets, evaluation, contextual factors, and sustainability.

• Grantee-and Community-Level Outcomes Modules—These modules collect data on key SPF Rx program outcomes, including opioid prescribing patterns and provider use of PDMP. Grantees will provide outcomes data at the grantee level for their state, tribal area, or jurisdiction, as well as at the community level for each of their subrecipient communities.

• Grantee-Level Interview—This qualitative interview will be administered annually to obtain information from the grantee project directors on their programs, staffing, populations of focus, infrastructure, capacity, lessons learned, and collaboration.

Average Annualized Data Collection Burden for the PEPC Data Collection ᵃ
Instrument | Average number of respondents | Average number of responses per respondent | Average number of responses | Hours per response | Average burden hours | Hourly wage c d | Annualized data collection burden
ART | ᵇ 107 | 1 | 107 | 1.5 | 161 | $30.56 | $4,920.16
| ᶜ 21 | 1 | 21 | 1.5 | 31 | 50.85 | 1,576.35
Total Burden for ART | 128 |  | 128 |  | 192 |  | 6,496.51
Grantee-Level PDMP Outcomes Module | ᶜ 21 | 1 | 21 | 2.5 | 52 | 50.85 | 2,627.25
Community-Level PDMP Outcomes Module | ᶜ 21 | 5.2 | 107 | 1.25 | 134.17 | 50.85 | 6,822.38
Grantee-Level Interview | ᶜ 21 | 1 | 21 | 1.5 | 31 | 50.85 | 1,576.35
Total Annualized Burden | 191 |  | 277 |  | 409.17 |  | 17,522.49
ᵃ Annualized Data Collection Burden captures the average number of respondents and responses, burden hours, and respondent cost over the 3 years (FY 2026-FY 2028).
ᵇ Community subrecipient respondent.
ᶜ Grantee respondent.
ᵈ Grantee Project Director or Evaluator hourly wage is based on the mean hourly wage for state government managers, as reported in the 2023 Occupational Employment (OES) by the Bureau of Labor Statistics (BLS) found at https://www.bls.gov/oes/current/naics4_999200.htm#11-00000.
ᵉ Subrecipient Staff hourly wage is based on the mean hourly wage for local government counselors, social workers, and other community and social service specialists, as reported in the 2023 OES by the BLS found at https://www.bls.gov/oes/current/naics4_999300.htm.

Written comments and recommendations for the proposed information collection should be sent within 30 days of publication of this notice to www.reginfo.gov/public/do/PRAMain. Find this particular information collection by selecting “Currently under 30-day Review—Open for Public Comments” or by using the search function.

Carlos Graham,
Social Science Analyst.

[FR Doc. 2026-02494 Filed 2-6-26; 8:45 am]

BILLING CODE 4162-20-P